SMALL BUSINESS ADMINISTRATION

[Declaration of Disaster #3499]

State of Oklahoma

As a result of the President's major disaster declaration on May 10, 2003, I find that Canadian, Cleveland, Grady, Kingfisher, Lincoln, Logan, McClain, Oklahoma and Pottawatomie Counties in the State of Oklahoma constitute a disaster area due to damages caused by severe storms and tornadoes occurring on May 8, 2003 and continuing. Applications for loans for physical damage as a result of this disaster may be filed until the close of business on July 9, 2003 and for economic injury until the close of business on February 10, 2004 at the address listed below or other locally announced locations: U.S. Small Business Administration, Disaster Area 3 Office, 4400 Amon Carter Blvd., Suite 102, Fort Worth, TX 76155.

In addition, applications for economic injury loans from small businesses located in the following contiguous counties may be filed until the specified date at the above location: Blaine, Caddo, Comanche, Creek, Garfield, Garvin, Major, Noble, Okfuskee, Payne, Pontotoc, Seminole and Stephens in the State of Oklahoma.

The interest rates are:

| Percent
For Physical Damage: |
Homeowners With Credit Available Elsewhere: | 5.625
Homeowners Without Credit Available Elsewhere: | 2.812
Businesses With Credit Available Elsewhere: | 5.906
Businesses and Non-Profit Organizations Without Credit Available Elsewhere: | 2.953
Others (Including Non-Profit Organizations) With Credit Available Elsewhere: | 5.500
For Economic Injury:
Businesses and Small Agricultural Cooperatives Without Credit Available Elsewhere: | 2.953

The number assigned to this disaster for physical damage is 349912 and for economic injury the number is 9V2700.

(Catalog of Federal Domestic Assistance Program Nos. 59002 and 59008).
Dated: May 12, 2003.
Cheri C. Wolff,
Acting Associate Administrator for Disaster Assistance.

[FR Doc. 03-12253 Filed 5-15-03; 8:45 am]

BILLING CODE 8025-01-P